DEPARTMENT OF COMMERCE

National Institute of Standards and Technology

Announcing a Meeting of the Computer System Security and Privacy Advisory Board

AGENCY: National Institute of Standards and Technology, DOC.

ACTION: Notice of meeting.

SUMMARY: Pursuant to the Federal Advisory Committee Act, 5 U.S.C. App., notice is hereby given that the Computer System Security and Privacy Advisory Board (CSSPAB) will meet Tuesday, March 6, 2001, from 9 a.m. until 5 p.m. and Thursday, March 8, 2001, from 9 a.m. until 4 p.m. The Advisory Board was established by the Computer Security Act of 1987 (P.L. 100-235) to advise the Secretary of Commerce and the Director of NIST on security and privacy issues pertaining to federal computer systems. All sessions will be open to the public. Details regarding the Board's activities are available at http://csrc.nist.gov/csspab/.

DATES: The meeting will be held on March 6, 2001, from 9 a.m. until 5 p.m. and on March 8, 2001, from 9 a.m. until 4 p.m.

ADDRESSES: The meeting will take place at the University Place Conference Center and Hotel, Indiana University-Purdue University at Indianapolis, 850 West Michigan Street, Indianapolis, IN.

Agenda

• Welcome and Overview

• Updates on Recent Legislative Issues

• Update on OMB Activities

• Overview of Reorganization of NIST Computer Security Division

• Work Plan Review of Governance Issues

• Work Plan Review of Best Practices Issues

• Work Plan Review of GPEA Process

• Work Plan Review of Security Metrics Issues

• Work Plan Review of Privacy Issues

• Work Plan Review of Baseline Standards Issues

• Review of Plans for Privacy Event in June

• Discussion of Follow-On Actions from December 2001 Meeting

• Public Participation

• Agenda Development for June 2001 Meeting

• Wrap-Up

Note that agenda items may change without notice because of possible unexpected schedule conflicts of presenters.

Public Participation

The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the CSSPAB Secretariat, Information Technology Laboratory, 100 Bureau Drive, Stop 8930, National Institute of Standards and Technology, Gaithersburg, MD 20899-8930. It would be appreciated if 35 copies of written material wee submitted for distribution to the Board and attendees no later than March 1, 2001. Approximately 15 seats will be available for the public and media.

FOR FURTHER INFORMATION CONTACT: Mr. Edward Roback, Board Secretariat, Information Technology Laboratory, National Institute of Standards and Technology, 100 Bureau Drive, Stop 8930, Gaithersburg, MD 20899-8930, telephone: (301) 975-3696.

Dated: February 12, 2001.
Karen H. Brown,
Acting Director, NIST.

[FR Doc. 01-4394 Filed 2-21-01; 8:45 am]

BILLING CODE 3510-CN-M